DEPARTMENT OF TRANSPORTATION

Surface Transportation Board

[STB Finance Docket No. 34003]

The Burlington Northern and Santa Fe Railway Company—Construction and Operation Exemption—Seadrift and Kamey, TX

AGENCY: Surface Transportation Board.

ACTION: Notice of exemption.

SUMMARY: Under 49 U.S.C. 10502, the Board conditionally exempts from the prior approval requirements of 49 U.S.C. 10901 the construction and operation by The Burlington Northern and Santa Fe Railway Company of a 7½-mile line of railroad between Seadrift and Kamey, TX.

DATES: The exemption will not become effective until the environmental review process is completed. Once that process is completed, the Board will issue a further decision addressing the environmental matters and establishing an exemption effective date at that time, if appropriate. Petitions to reopen must be filed by July 9, 2001.

ADDRESSES: Send pleadings, referring to STB Finance Docket No. 34003, to: (1) Surface Transportation Board, Office of the Secretary, Case Control Unit, 1925 K Street, NW., Washington, DC 20423-0001; and (2) Erika Z. Jones, Mayer, Brown & Platt, 1909 K Street, NW., Washington, DC 20006.

FOR FURTHER INFORMATION CONTACT: Beryl Gordon, (202) 565-1600. [TDD for the hearing impaired: 1-800-877-8339.]

SUPPLEMENTARY INFORMATION: Additional information is contained in the Board's decision. To purchase a copy of the full decision, write to, call, or pick up in person from: Dā-To-Dā Office Solutions, Room 405, 1925 K Street, NW., Washington, DC 20006. Telephone: (202) 293-7776. E-mail: Da_To_Da@Hotmail.com. [TDD for the hearing impaired: 1-800-877-8339.]

Board decisions and notices are available on our website at “WWW.STB.DOT.GOV.”

Decided: June 12, 2001.
By the Board, Chairman Morgan, Vice Chairman Clyburn, and Commissioner Burkes.
Vernon A. Williams,
Secretary.

[FR Doc. 01-15432 Filed 6-18-01; 8:45 am]

BILLING CODE 4915-00-P